DEPARTMENT OF THE INTERIOR

Bureau of Ocean Energy Management

[Docket No. BOEM-2017-0001]

Notice of Availability for the Gulf of Mexico Outer Continental Shelf Lease Sale Draft Supplemental Environmental Impact Statement 2018 MMAA10400

AGENCY: Bureau of Ocean Energy Management, Interior.

ACTION: Notice of availability.

SUMMARY: The Bureau of Ocean Energy Management (BOEM) is announcing the availability of the Gulf of Mexico Outer Continental Shelf Lease Sale Draft Supplemental Environmental Impact Statement 2018 (2018 Draft Supplemental EIS). The 2018 Draft Supplemental EIS provides an analysis of the potential significant impacts of a proposed action (a region wide lease sale) and reasonable alternatives to the proposed action. This Supplemental EIS is expected to be used to inform decisions on each of the two lease sales scheduled in 2018, and to be supplemented as necessary for future Gulf of Mexico region wide lease sales. This Notice of Availability also serves to announce the beginning of the 45-day public comment period for the Draft Supplemental EIS.

The Draft Supplemental EIS and associated information are available on BOEM's Web site at http://www.boem.gov/nepaprocess/. BOEM will primarily distribute digital copies of the Draft Supplemental EIS on compact discs. You may request a compact disc, a paper copy or the location of a library with a digital copy of the Draft Supplemental EIS from the BOEM, Gulf of Mexico OCS Region, Public Information Office (GM 335A), 1201 Elmwood Park Boulevard, New Orleans, Louisiana 70123-2394 or by telephone at 1-800-200-GULF.

DATES: Comments must be submitted or postmarked no later than May 15, 2017.

FOR FURTHER INFORMATION CONTACT: For more information on the Draft Supplemental EIS, you may contact Mr. Greg Kozlowski, Deputy Regional Supervisor, Bureau of Ocean Energy Management, Gulf of Mexico Outer Continental Shelf (OCS) Region, Office of Environment (GM 623E), 1201 Elmwood Park Boulevard, New Orleans, Louisiana 70123-2394. You may also contact Mr. Greg Kozlowski by telephone at 504-736-2512.

SUPPLEMENTARY INFORMATION: Federal, State, Tribal, and local governments and/or agencies and the public may submit written comments on the scope of this Draft Supplemental EIS through the following methods:

1. In an envelope labeled “Comments on the 2018 Draft Supplemental EIS” and mailed (or hand carried) to Mr. Greg Kozlowski, Deputy Regional Supervisor, Office of Environment (GM 623E), Bureau of Ocean Energy Management, Gulf of Mexico OCS Region, 1201 Elmwood Park Boulevard, New Orleans, Louisiana 70123-2394; or

2. Through the regulations.gov web portal: Navigate to http://www.regulations.gov and search for Docket No. BOEM-2017-0001. Click on the “Comment Now!” button to the right of the document link. Enter your information and comment, and then click “Submit.”

BOEM will hold public meetings to obtain comments regarding the Draft Supplemental EIS. These public meetings will be held in an open-house format, and will take place between 4:00 p.m. CDT and 7:00 p.m. CDT. They are scheduled as follows:

• New Orleans, Louisiana: Tuesday, April 25, 2017, Wyndham Garden New Orleans Airport, 6401 Veterans Memorial Blvd., Metairie, Louisiana 70003;

• Houston, Texas: Thursday, April 27, 2017, Houston Marriott North, 255 North Sam Houston Pkwy East, Houston, Texas 77060;

• Pensacola, Florida: Monday, May 1, 2017, Hilton Garden Inn Pensacola Airport, 1144 Airport Blvd., Pensacola, Florida 32504;

• Mobile, Alabama: Tuesday, May 2, 2017, The Admiral Hotel Mobile, Curio Collection by Hilton, 251 Government Street, Mobile, Alabama 36602; and

• Gulfport, Mississippi: Wednesday, May 3, 2017, Courtyard by Marriott, Gulfport Beachfront MS Hotel, 1600 East Beach Boulevard, Gulfport, Mississippi 39501.

BOEM does not consider anonymous comments; please include your name and address as part of your submittal. You should be aware that your entire comment, including your personal identifying information, may be made publicly available at any time. While you can ask us in your comments to withhold your personal identifying information from public review, we cannot guarantee that we will be able to do so. All submissions from organizations, businesses, and identified individuals will be available for public viewing on regulations.gov.

Authority: This Notice of Availability of a Draft Supplemental EIS is published pursuant to the National Environmental Policy Act of 1969, as amended (42 U.S.C. 4321 et seq.), and 43 CFR 46.415.

Dated: March 22, 2017.
Walter D. Cruickshank,
Acting Director, Bureau of Ocean Energy Management.

[FR Doc. 2017-06102 Filed 3-30-17; 8:45 am]

BILLING CODE 4310-MR-P